OFFICE OF PERSONNEL MANAGEMENT

Excepted Service

AGENCY: Office of Personnel Management (OPM).

ACTION: Notice.

SUMMARY: This notice identifies Schedule A, B, and C appointing authorities applicable to a single agency that were established or revoked from September 1, 2021 to September 30, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during September 2021.

Schedule B

No Schedule B Authorities to report during September 2021.

Schedule C

The following Schedule C appointing authorities were approved during September 2021.

Agency name | Organization name | Position title | Authorization No. | Effective date
DEPARTMENT OF AGRICULTURE | Office of the Secretary Agricultural Marketing Service | Senior Advisor Senior Advisor for Organics and Emerging Markets | DA210151 10150 | 09/08/2021 09/16/2021
| Farm Service Agency | State Executive Director—Georgia | DA210143 | 09/16/2021
|  | State Executive Director—Michigan | DA210153 | 09/16/2021
|  | State Executive Director—Wisconsin | DA210158 | 09/30/2021
|  | State Executive Director—New Mexico | DA210144 | 09/16/2021
|  | State Executive Director—South Carolina | DA210145 | 09/16/2021
|  | State Executive Director—North Carolina | DA210139 | 09/16/2021
| Office of the Assistant Secretary for Congressional Relations | Legislative Analyst | DA210155 | 09/24/2021
| Office of Rural Development | State Director—Alabama | DA210152 | 09/17/2021
|  | State Director—Michigan | DA210159 | 09/30/2021
|  | State Director—New Mexico | DA210148 | 09/16/2021
|  | State Director—North Carolina | DA210146 | 09/16/2021
|  | State Director—Pennsylvania | DA210157 | 09/30/2021
|  | State Director—South Carolina | DA210140 | 09/16/2021
|  | State Director—Georgia | DA210147 | 09/16/2021
DEPARTMENT OF COMMERCE | Office of International Trade Administration | Director, Office of Legislative Affairs | DC210188 | 09/10/2021
| Minority Business Development Agency | Special Assistant | DC210198 | 09/24/2021
| Office of Legislative and Intergovernmental Affairs | Director of Legislative Affairs | DC210202 | 09/24/2021
| Office of the Assistant Secretary for Economic Development | Director of Strategic Partnerships | DC210203 | 09/29/2021
| Office of the General Counsel | Counsel (2) | DC210187 DC210194 | 09/09/2021 09/26/2021
| Office of Under Secretary | Senior Advisor | DC210199 | 09/24/2021
DEPARTMENT OF DEFENSE | Office of the Assistant Secretary of Defense (Legislative Affairs) | Special Assistant (2) | DD210264 DD210269 | 09/08/2021 09/14/2021
| Office of the Assistant to the Secretary of Defense (Public Affairs) | Senior Research Special Assistant | DD210271 | 09/28/2021
| Office of the Secretary of Defense | Protocol Officer | DD210267 | 09/09/2021
DEPARTMENT OF THE ARMY | Office of the Assistant Secretary Army (Acquisition, Logistics and Technology) | Special Assistant | DW210033 | 09/22/2021
DEPARTMENT OF EDUCATION | Office of Career Technical and Adult Education | Special Assistant | DB210132 | 09/01/2021
| Office of Communications and Outreach | Special Assistant | DB210142 | 09/28/2021
| Office of Legislation and Congressional Affairs | Deputy Assistant Secretary | DB210138 | 09/16/2021
| Office of Planning, Evaluation and Policy Development | Deputy Director, Office of Educational Technology | DB210139 | 09/16/2021
| Office of the Secretary | Chief of Staff | DB210134 | 09/08/2021
DEPARTMENT OF ENERGY | Office of the Assistant Secretary for Congressional and Intergovernmental Affairs | Regional Intergovernmental and External Affairs for the Southwest | DE210182 | 09/20/2021
|  | Regional Intergovernmental and External Affairs Specialist for Appalachia | DE210183 | 09/20/2021
|  | Regional Intergovernmental and External Affairs Specialist | DE210186 | 09/20/2021
|  | Regional Intergovernmental and External Affairs for the Northeast | DE210189 | 09/20/2021
| Office of Management | Director of Scheduling | DE210181 | 09/07/2021
| Office of Public Affairs | Deputy Press Secretary | DE210198 | 09/22/2021
|  | Special Assistant | DE210201 | 09/29/2021
| Office of Science | Special Assistant | DE210188 | 09/29/2021
ENVIRONMENTAL PROTECTION AGENCY | Office of the Assistant Administrator for Mission Support | Deputy Assistant Administrator for Mission Support | EP210104 | 09/07/2021
GENERAL SERVICES ADMINISTRATION | Office of the Administrator | Director of Advance | GS210045 | 09/09/2021
DEPARTMENT OF HEALTH AND HUMAN SERVICES | Office of Administration for Children and Families | Director of Communications | DH210243 | 09/28/2021
| Office of Global Affairs | Chief of Staff | DH210237 | 09/07/2021
| Office of Intergovernmental and External Affairs | Regional Director, Denver, Colorado, Region VIII | DH210233 | 09/08/2021
| Office of the Assistant Secretary for Legislation | Special Assistant | DH210251 | 09/28/2021
| Office of the Assistant Secretary for Public Affairs | Press Secretary (Human Services) | DH210252 | 09/29/2021
| Office of the Secretary | Policy Advisor | DH210239 | 09/07/2021
DEPARTMENT OF HOMELAND SECURITY | Cybersecurity and Infrastructure Security Agency | Special Assistant | DM210377 | 09/14/2021
| Office of Strategy, Policy, and Plans | Special Advisor Counselor to the Under Secretary | DM210460 DM210468 | 09/16/2021 09/21/2021
|  | Senior Counselor to the Under Secretary | DM210472 | 09/28/2021
|  | Policy Advisor | DM210471 | 09/30/2021
| Office of the Secretary | Special Assistant to the Deputy Secretary | DM210467 | 09/21/2021
| United States Customs and Border Protection | Special Assistant | DM210455 | 09/14/2021
|  | Senior Advisor for Strategic Communication | DM210465 | 09/21/2021
DEPARTMENT OF HOUSING AND URBAN DEVELOPMENT | Office of Congressional and Intergovernmental Relations | Special Assistant | DU210105 | 09/16/2021
| Office of Fair Housing and Equal Opportunity | Special Assistant | DU210103 | 09/08/2021
| Office of Public Affairs | Assistant Press Secretary | DU210101 | 09/02/2021
|  | Digital Strategist | DU210104 | 09/08/2021
DEPARTMENT OF THE INTERIOR | Office of the Assistant Secretary—Indian Affairs | Special Assistant | DI210138 | 09/14/2021
DEPARTMENT OF JUSTICE | Office of Civil Division | Counsel (2) | DJ210166 DJ210169 | 09/01/2021 09/08/2021
| Office of Civil Rights Division | Chief of Staff and Senior Counsel | DJ210170 | 09/01/2021
| Office of Legal Policy | Senior Counsel | DJ210165 | 09/01/2021
| Office of the Associate Attorney General | Deputy Associate Attorney General Counsel | DJ210176 DJ210174 | 09/15/2021 09/16/2021
| Office of the Attorney General | Special Assistant | DJ210167 | 09/08/2021
| Office of the Deputy Attorney General | Senior Counselor | DJ210177 | 09/15/2021
DEPARTMENT OF LABOR | Office of Veterans Employment and Training Service | Special Advisor | DL210116 | 09/22/2021
| Office of the Secretary | Scheduler | DL210120 | 09/30/2021
| Bureau of International Labor Affairs | Special Assistant | DL210124 | 09/30/2021
NATIONAL ENDOWMENT FOR THE HUMANITIES | National Endowment for the Humanities | Director of Congressional Affairs White House Liaison and Senior Advisor to the Chief of Staff | NH210006 NH210008 | 09/20/2021 09/20/2021
NATIONAL LABOR RELATIONS BOARD | Office of the Board Members | Congressional Liaison Specialist | NL210012 | 09/20/2021
NATIONAL TRANSPORTATION SAFETY BOARD | Office of Board Members | Senior Counsel | TB210002 | 09/13/2021
OFFICE OF MANAGEMENT AND BUDGET | Office of the General Counsel Office of E-Government and Information Technology | Associate Deputy General Counsel Senior Advisor for Delivery (2) | BO210078 BO210079 BO210080 | 09/01/2021 BO210079 BO210080
OFFICE OF SCIENCE AND TECHNOLOGY POLICY | Office of Science and Technology Policy | Special Advisor for Directors Initiatives | TS210008 | 09/17/2021
OFFICE OF THE UNITED STATES TRADE REPRESENTATIVE | Congressional Affairs | Director for Congressional Affairs | TN210018 | 09/28/2021
DEPARTMENT OF STATE | Bureau of Legislative Affairs | Staff Assistant | DS210276 | 09/10/2021
| Bureau of Oceans and International Environmental and Scientific Affairs | Senior Advisor Special Advisor | DS210277 DS210289 | 09/10/2021 09/24/2021
|  | Senior Advisor (2) | DS210278 DS210281 | 09/15/2021 09/15/2021
| Office of Policy Planning | Special Advisor (2) | DS210280 DS210288 | 09/14/2021 09/22/2021
|  | Special Assistant | DS210285 | 09/23/2021
| Office of the Chief of Protocol | Assistant Manager Protocol Officer | DS210282 DS210287 | 09/22/2021 09/22/2021
| Office of the Counselor | Senior Advisor | DS210279 | 09/14/2021
DEPARTMENT OF TRANSPORTATION | Office of Public Affairs Office of the Assistant Secretary for Administration | Digital Director Disability Policy Advisor | DT210105 DT210107 | 09/20/2021 09/20/2021
| Office of the Deputy Secretary | Counselor to the Deputy Secretary | DT210108 | 09/28/2021
| Office of Civil Rights | Special Assistant | DT210110 | 09/28/2021
DEPARTMENT OF THE TREASURY | Secretary of the Treasury Office of the Assistant Secretary (Public Affairs) | Special Assistant Spokesperson Press Assistant | DY210119 DY210124 DY210123 | 09/09/2021 09/10/2021 09/30/2021
| Office of the Under Secretary for Domestic Finance | Senior Advisor | DY210129 | 09/30/2021
DEPARTMENT OF VETERANS AFFAIRS | Veterans Benefits Administration | Special Assistant to the Under Secretary for Benefits | DV210112 | 09/29/2021

The following Schedule C appointing authorities were revoked during September 2021.

Agency name | Organization name | Position title | Request No. | Vacate date
CONSUMER FINANCIAL PROTECTION BUREAU | Consumer Financial Protection Bureau | Executive Secretary and Senior Advisor to the Director | FP210023 | 09/05/2021
| Office of the Director | Senior Advisor | FP210008 | 09/18/2021
|  | Senior Advisor to the Director for Supervision and Enforcement | FP210009 | 09/18/2021
DEPARTMENT OF JUSTICE | Office of the Associate Attorney General | Senior Counselor | DJ210050 | 09/16/2021
DEPARTMENT OF STATE | Office of the Secretary | Special Advisor | DS210272 | 09/15/2021
EXPORT-IMPORT BANK | Office of Congressional and Intergovernmental Affairs | Senior Vice President | EB210004 | 09/11/2021
OFFICE OF MANAGEMENT AND BUDGET | Office of E-Government and Information Technology | Senior Advisor for Delivery (United States Digital Service) | BO210033 | 09/19/2021
|  | Senior Advisor for Technology and Delivery (United States Digital Service) | BO210050 | 09/23/2021
OFFICE OF THE SECRETARY OF DEFENSE | Office of the Assistant to the Secretary of Defense (Public Affairs) | Speechwriter | DD210175 | 09/11/2021

Authority: 5 U.S.C. 3301 and 3302; E.O. 10577, 3 CFR, 1954-1958 Comp., p. 218.

Office of Personnel Management.
Alexys Stanley,
Regulatory Affairs Analyst.

[FR Doc. 2022-02645 Filed 2-8-22; 8:45 am]

BILLING CODE 6325-39-P